DEPARTMENT OF TRANSPORTATION

Federal Aviation Administration

14 CFR Part 39

[Docket No. FAA-2022-0278; Project Identifier MCAI-2021-01437-R; Amendment 39-21979; AD 2022-06-13]

RIN 2120-AA64

Airworthiness Directives; Airbus Helicopters Deutschland GmbH (AHD) Helicopters

AGENCY: Federal Aviation Administration (FAA), DOT.

ACTION: Final rule; request for comments.

SUMMARY: The FAA is adopting a new airworthiness directive (AD) for certain Airbus Helicopters Deutschland GmbH (AHD) Model MBB-BK 117 C-2 and MBB-BK 117 D-2 helicopters. This AD was prompted by a report of erroneous or partial installation of the seat belt restraint system. This AD requires inspecting certain seats, as specified in a European Union Aviation Safety Agency (EASA) AD, which is incorporated by reference. The FAA is issuing this AD to address the unsafe condition on these products.

DATES: This AD becomes effective March 30, 2022.

The Director of the Federal Register approved the incorporation by reference of certain publications listed in this AD as of March 30, 2022.

The FAA must receive comments on this AD by April 29, 2022.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For EASA material incorporated by reference (IBR) in this final rule, contact EASA, Konrad-Adenauer-Ufer 3, 50668 Cologne, Germany; telephone +49 221 8999 000; email ADs@easa.europa.eu; internet www.easa.europa.eu. You may find this IBR material on the EASA website at https://ad.easa.europa.eu. For Mecaer Aviation Group (MAG) service information identified in this final rule, contact Mecaer Aviation Group, Via dell'Artigianato 1, Monteprandone 63076 Ascoli Piceno, Italy; telephone (+39) 0735-7091; email caw@mecaer.com; or at www.mecaer.com. You may view this material at the FAA, Office of the Regional Counsel, Southwest Region, 10101 Hillwood Pkwy., Room 6N-321, Fort Worth, TX 76177. For information on the availability of this material at the FAA, call (817) 222-5110. Service information that is IBRed is also available in the AD docket at https://www.regulations.gov by searching for and locating Docket No. FAA-2022-0278.

Examining the AD Docket

You may examine the AD docket at https://www.regulations.gov by searching for and locating Docket No. FAA-2022-0278; or in person at Docket Operations between 9 a.m. and 5 p.m., Monday through Friday, except Federal holidays. The AD docket contains this final rule, the EASA AD, supplemental type certificates (STCs), any comments received, and other information. The street address for Docket Operations is listed above. Comments will be available in the AD docket shortly after receipt.

FOR FURTHER INFORMATION CONTACT: Antariksh Shetty, Aerospace Engineer, Airframe & Propulsion Section, New York ACO Branch, Compliance & Airworthiness Division, FAA, 1600 Stewart Avenue, Suite 410, Westbury, NY 11590; telephone (516) 228-7300; email 9-avs-nyaco-cos@faa.gov.

SUPPLEMENTARY INFORMATION:

Background

EASA, which is the Technical Agent for the Member States of the European Union, has issued EASA AD 2021-0287, dated December 21, 2021, and corrected January 26, 2022 (EASA AD 2021-0287), to correct an unsafe condition for Airbus Helicopters Deutschland GmbH (AHD), formerly Eurocopter Deutschland GmbH; and Airbus Helicopters Inc., formerly American Eurocopter LLC, Model MBB-BK117 C-2, D-2, and D-3 helicopters, all serial numbers, if modified in accordance with EASA STC 10038915 or STC 10055175. The equivalent FAA STCs for Model MBB-BK117 C-2 and MBB-BK117 D-2 helicopters are STC SR03130NY and STC SR03703NY, respectively. Currently, there are no equivalent FAA STCs or any other forms of FAA design approval to install an affected seat on Model MBB-BK117 D-3 helicopters. Accordingly, this modification does not affect U.S. registered MBB-BK117 D-3 helicopters, so this AD does not include that model in the applicability.

This AD was prompted by a report of erroneous or partial installation of the seat belt restraint system. The FAA is issuing this AD to ensure proper installation of the seat belt restraint system. See EASA AD 2021-0287 for additional background information.

Related Service Information Under 1 CFR Part 51

EASA AD 2021-0287 requires a one-time inspection of the affected seats and depending on the results, corrective action or marking the affected seat “inoperative.”

The FAA also reviewed Mecaer Aviation Group Mandatory Service Bulletin No. SB-EC1-010, Revision A, dated December 30, 2021 (SB-EC1-010, Rev A). SB-EC1-010, Rev A identifies affected part-numbered and serial-numbered pilot, co-pilot, and passenger (passenger cabin) seats, and specifies procedures for inspecting the affected seats for proper assembly and corrective action if there is a deviation.

This material is reasonably available because the interested parties have access to it through their normal course of business or by the means identified in the ADDRESSES section.

Other Related Service Information

The FAA reviewed B/E Aerospace Fischer Component Maintenance Manual With Illustrated Parts List, 25-24-19, Revision D, dated September 10, 2018. This service information specifies procedures for maintenance, repair, disassembly, and assembly of an affected crew (pilot or co-pilot) seat.

The FAA also reviewed Fischer+Entwicklungen Component Maintenance Manual With Illustrated Parts List, 25-24-29, Revision C, dated January 09, 2013. This service information specifies procedures for maintenance, repair, disassembly, and assembly of an affected common (passenger or passenger cabin) seat.

FAA's Determination

These helicopters have been approved by EASA and are approved for operation in the United States. Pursuant to the FAA's bilateral agreement with the European Union, EASA, its technical representative, has notified the FAA of the unsafe condition described in its AD. The FAA is issuing this AD after evaluating all pertinent information and determining that the unsafe condition exists and is likely to exist or develop on other helicopters of the same type designs.

Requirements of This AD

This AD requires accomplishing the actions specified in EASA AD 2021-0287, described previously, as incorporated by reference, except for any differences identified as exceptions in the regulatory text of this AD and except as discussed under “Differences Between this AD and EASA AD 2021-0287.”

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, EASA AD 2021-0287 will be incorporated by reference in this FAA final rule. This AD would, therefore, require compliance with EASA AD 2021-0287 in its entirety through that incorporation, except for any differences identified as exceptions in the regulatory text of this AD. Using common terms that are the same as the heading of a particular section in EASA AD 2021-0287 does not mean that operators need comply only with that section. For example, where the AD requirement refers to “all required actions and compliance times,” compliance with this AD requirement is not limited to the section titled “Required Action(s) and Compliance Time(s)” in EASA AD 2021-0287. Service information referenced in EASA AD 2021-0287 for compliance will be available at https://www.regulations.gov by searching for and locating Docket No. FAA-2022-0278.

Differences Between This AD and EASA AD 2021-0287

EASA AD 2021-0287 includes Model MBB-BK 117 D-3 helicopters in the applicability, whereas this AD does not. This AD requires renumbering certain figures in SB-EC1-010, Rev A, for the purposes of this AD, whereas EASA AD 2021-0287 does not. Where the service information referenced in EASA AD 2021-0287 specifies to contact “MAG DOA (caw@mecaer.com) to receive instructions,” this AD requires repair done in accordance with certain approved methods instead.

Where the service information referenced in EASA AD 2021-0287 specifies, “17. Make available items C (q.ty 2) and D (q.ty 2) (ref. Figure 18), for each affected seat,” this AD requires installing new (zero total hours time-in-service) nuts and hex head screws (bolts).

Lastly, the service information referenced in EASA AD 2021-0287 specifies to submit certain information to the manufacturer; this AD does not include that requirement.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies foregoing notice and comment prior to adoption of this rule because seat belt restraint systems are critical for flight crew and occupant safety. The improper installation of the seat belt restraint system, if not corrected, could result in serious injury to the seat occupant during various operations including inclement weather, autorotations, hard landings, and emergency or forced landings. In light of this, the required actions of this AD must be accomplished within 3 months or 50 hours time-in-service, whichever occurs first. This is a short compliance time for these high usage helicopters, some of which could reach these hours within 60 calendar days. Therefore, the compliance time for the required actions is shorter than the time necessary for the public to comment and for publication of the final rule. Accordingly, notice and opportunity for prior public comment are impracticable and contrary to the public interest pursuant to 5 U.S.C. 553(b)(3)(B).

In addition, the FAA finds that good cause exists pursuant to 5 U.S.C. 553(d) for making this amendment effective in less than 30 days, for the same reasons the FAA found good cause to forego notice and comment.

Comments Invited

The FAA invites you to send any written data, views, or arguments about this final rule. Send your comments to an address listed under ADDRESSES. Include “Docket No. FAA-2022-0278; Project Identifier MCAI-2021-01437-R” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to https://www.regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Antariksh Shetty, Aerospace Engineer, Airframe & Propulsion Section, New York ACO Branch, Compliance & Airworthiness Division, FAA, 1600 Stewart Avenue, Suite 410, Westbury, NY 11590; telephone (516) 228-7300; email 9-avs-nyaco-cos@faa.gov. Any commentary that the FAA receives that is not specifically designated as CBI will be placed in the public docket for this rulemaking.

Regulatory Flexibility Act

The requirements of the Regulatory Flexibility Act (RFA) do not apply when an agency finds good cause pursuant to 5 U.S.C. 553 to adopt a rule without prior notice and comment. Because the FAA has determined that it has good cause to adopt this rule without prior notice and comment, RFA analysis is not required.

Costs of Compliance

The FAA estimates that this AD affects 3 helicopters of U.S. Registry. Labor rates are estimated at $85 per work-hour. Based on these numbers, the FAA estimates the following costs to comply with this AD.

Inspecting the seat belt restraint system for a cabin seat takes up to 1 work-hour for an estimated cost of up to $85 per cabin seat and up to $2,040 for the U.S. fleet.

If required, reworking the seat belt restraint system for a cabin seat takes up to 1 work-hour and parts cost up to $95 for an estimated cost of up to $180 per cabin seat and up to $4,320 for the U.S. fleet.

Inspecting the seat belt restraint system for a pilot/co-pilot seat takes up to 2 work-hours for an estimated cost of up to $170 per pilot/co-pilot seat and up to $1,020 for the U.S. fleet.

If required, reworking the seat belt restraint system for a pilot/co-pilot seat takes up to 2 work-hours with a negligible parts cost for an estimated cost of up to $170 per pilot/co-pilot seat and up to $1,020 for the U.S. fleet. The FAA has no way of determining the costs pertaining to any necessary repairs that are required to be done with an approved method.

The FAA has included all known costs in its cost estimate. According to the manufacturer, however, some of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national Government and the States, or on the distribution of power and responsibilities among the various levels of government.

For the reasons discussed, I certify that this AD:

(1) Is not a “significant regulatory action” under Executive Order 12866, and

(2) Will not affect intrastate aviation in Alaska

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

AD 2022-06-13 Airbus Helicopters Deutschland GmbH (AHD): Amendment 39-21979; Docket No. FAA-2022-0278; Project Identifier MCAI-2021-01437-R.

(a) Effective Date

This airworthiness directive (AD) is effective March 30, 2022.

(b) Affected ADs

None.

(c) Applicability

This AD applies to Airbus Helicopters Deutschland GmbH (AHD) Model MBB-BK 117 C-2 and MBB-BK 117 D-2 helicopters, certificated in any category, modified by Supplemental Type Certificate (STC) SR03130NY, or STC SR03703NY.

(d) Subject

Joint Aircraft Service Component (JASC) Code: 2500, Cabin Equipment/Furnishings.

(e) Unsafe Condition

This AD was prompted by a report of erroneous or partial installation of the seat belt restraint system. The FAA is issuing this AD to ensure proper installation of the seat belt restraint system. The unsafe condition, if not addressed, could prevent proper operation of the seat belt restraint system, resulting in subsequent injury to the seat occupant.

(f) Compliance

Comply with this AD within the compliance times specified, unless already done.

(g) Requirements

Except as specified in paragraph (h) of this AD: Comply with all required actions and compliance times specified in, and in accordance with, European Union Aviation Safety Agency (EASA) AD 2021-0287, dated December 21, 2021, and corrected January 26, 2022 (EASA AD 2021-0287).

(h) Exceptions to EASA AD 2021-0287

(1) Where EASA AD 2021-0287 requires compliance in terms of flight hours, this AD requires using hours time-in-service (TIS).

(2) Where EASA AD 2021-0287 refers to its effective date, this AD requires using the effective date of this AD.

(3) Where paragraph (1) of EASA AD 2021-0287 specifies to “inspect each affected part in accordance with the instructions of the SB,” this AD requires inspecting each affected part by following the procedures in Mecaer Aviation Group Mandatory Service Bulletin No. SB-EC1-010, Revision A, dated December 30, 2021 (SB-EC1-010, Rev A). Except for the purposes of this AD, consider Figure 16 on page 16 of SB-EC1-010, Rev A, as Figure 18 and consider Figures 17 and 18 on page 17 of SB-EC1-010, Rev A, as Figures 19 and 20, respectively.

Note 1 to paragraph (h)(3): SB-EC1-010, Rev A refers to a passenger seat as a passenger seat and passenger cabin seat; a seat belt as a seat belt and safety belt; and a bolt as a hex head screw and hex head bolt.

(4) Where the service information referenced in paragraph (2) of EASA AD 2021-0287 specifies to “contact MAG to receive missing parts/materials, if any,” this AD requires replacing the missing parts and materials but does not require contacting MAG to receive the missing parts or materials.

(5) Where the service information referenced in paragraph (2) of EASA AD 2021-0287 specifies contacting “MAG DOA (caw@mecaer.com) to receive instructions,” this AD requires repair done in accordance with a method approved by the Manager, General Aviation & Rotorcraft Section, International Validation Branch, FAA; or EASA; or Airbus Helicopters' EASA Design Organization Approval (DOA). If approved by the DOA, the approval must include the DOA-authorized signature.

(6) Where the service information referenced in paragraph (2) of EASA AD 2021-0287 specifies, “17. Make available items C (q.ty 2) and D (q.ty 2) (ref. Figure 18), for each affected seat,” this AD requires installing new (zero total hours TIS) nuts and hex head screws.

(7) This AD does not mandate compliance with the “Remarks” section of EASA AD 2021-0287.

(i) No Reporting Requirement

Although the service information referenced in EASA AD 2021-0287 specifies to submit certain information to the manufacturer, this AD does not include that requirement.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k) of this AD. Information may be emailed to: 9-AVS-AIR-730-AMOC@faa.gov.

(2) Before using any approved AMOC, notify your appropriate principal inspector, or lacking a principal inspector, the manager of the local flight standards district office/certificate holding district office.

(k) Related Information

For more information about this AD, contact Antariksh Shetty, Aerospace Engineer, Airframe & Propulsion Section, New York ACO Branch, Compliance & Airworthiness Division, FAA, 1600 Stewart Avenue, Suite 410, Westbury, NY 11590; telephone (516) 228-7300; email 9-avs-nyaco-cos@faa.gov.

(l) Material Incorporated by Reference

(1) The Director of the Federal Register approved the incorporation by reference of the service information listed in this paragraph under 5 U.S.C. 552(a) and 1 CFR part 51.

(2) You must use this service information as applicable to do the actions required by this AD, unless the AD specifies otherwise.

(i) European Union Aviation Safety Agency (EASA) AD 2021-0287, dated December 21, 2021, and corrected January 26, 2022.

(ii) Mecaer Aviation Group Mandatory Service Bulletin No. SB-EC1-010, Revision A, dated December 30, 2021.

(3) For EASA AD 2021-0287, contact EASA, Konrad-Adenauer-Ufer 3, 50668 Cologne, Germany; telephone +49 221 8999 000; email ADs@easa.europa.eu; internet www.easa.europa.eu. You may find the EASA material on the EASA website at https://ad.easa.europa.eu. For Mecaer Aviation Group service information identified in this AD, contact Mecaer Aviation Group (MAG), Via dell'Artigianato 1, Monteprandone 63076 Ascoli Piceno, Italy; telephone (+39) 0735-7091; email caw@mecaer.com; or at www.mecaer.com.

(4) You may view this service information at the FAA, Office of the Regional Counsel, Southwest Region, 10101 Hillwood Pkwy., Room 6N-321, Fort Worth, TX 76177. For information on the availability of this material at the FAA, call (817) 222-5110.

(5) You may view this service information that is incorporated by reference at the National Archives and Records Administration (NARA). For information on the availability of this material at NARA, email: fr.inspection@nara.gov, or go to: https://www.archives.gov/federal-register/cfr/ibr-locations.html.

Issued on March 10, 2022.
Lance T. Gant,
Director, Compliance & Airworthiness Division, Aircraft Certification Service.

[FR Doc. 2022-05525 Filed 3-11-22; 4:15 pm]

BILLING CODE 4910-13-P